DEPARTMENT OF LABOR

Employment and Training Administration

[TA-W-53,220]

Agilent Technologies, Loveland, CO; Notice of Termination of Investigation

Pursuant to Section 221 of the Trade Act of 1974, as amended, an investigation was initiated on October 14, 2003 in response to a worker petition filed on behalf of workers at Agilent Technologies, Loveland, Colorado.

The petitioning group of workers is covered by an earlier petition filed on October 7, 2003 (TA-W-53,164) that is the subject of an ongoing investigation for which a determination has not yet been issued. Further investigation in this case would duplicate efforts and serve no purpose; therefore the investigation under this petition has been terminated.

Signed at Washington, DC this 17th day of October, 2003.
Elliott S. Kushner,
Certifying Officer, Division of Trade Adjustment Assistance.

[FR Doc. 03-29273 Filed 11-21-03; 8:45 am]

BILLING CODE 4510-30-P